DEPARTMENT OF THE INTERIOR

Bureau of Land Management

[BLM_AK_FRN_MO4500170073; F-86061, F-16298, F-16299, F-16301, AA-61299, F-16304, F-85667, AA-61005, F-86064, F-85702, AA-66614]

Extension of the Opening Order in Public Land Order No. 7899 and Addressing Pending Public Land Orders in Alaska

AGENCY: Bureau of Land Management, Interior.

ACTION: Amended opening order.

SUMMARY: For orderly management of the public lands subject to Public Land Order 7899, published on January 19, 2021, extended by 60 days on February 18, 2021, and extended for two years on April 16, 2021, the lands described therein shall not be opened until August 31, 2024. This notice also clarifies that the BLM has not published opening orders for PLOs 7900, 7901, 7902, and 7903, and therefore they continue to have no effective date.

DATES: This Order takes effect on April 10, 2023.

FOR FURTHER INFORMATION CONTACT: David V. Mushovic, Bureau of Land Management (BLM) Alaska State Office, 222 West Seventh Avenue, Mailstop #13, Anchorage, AK 99513-7504; telephone: 907-271-4682; or email: dmushovi@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: Public Land Order (PLO) No. 7899, which would revoke withdrawals established under the Alaska Native Claims Settlement Act (ANCSA) section 17(d)(1) on lands in the Kobuk-Seward Peninsula planning area, was signed on January 11, 2021, and published in the Federal Register on January 19, 2021 (86 FR 5236). PLO Nos. 7900, 7901, 7902, and 7903, which would revoke withdrawals established under ANCSA section 17(d)(1) on lands in the Ring of Fire, Bay, Bering Sea-Western Interior, and East Alaska planning areas, respectively, were signed on January 15 and 16, 2021, but were never published in the Federal Register and therefore do not have an opening date. The Department of the Interior (Department) deferred the opening of the lands described in PLO No. 7899 by 60 days on February 18, 2021, to provide an opportunity to review the decisions and ensure the orderly management of the public lands (86 FR 10131). Subsequently, the Department identified certain procedural and legal defects in the decision-making processes for PLO Nos. 7899, 7900, 7901, 7902, and 7903 (collectively, “the PLOs”), including insufficient analysis under the National Environmental Policy Act (NEPA), failure to follow section 106 of the National Historic Preservation Act (NHPA), possible failure to adequately evaluate impacts under section 7 of the Endangered Species Act (ESA), and failure to secure consent from the Department of Defense (DOD) with regard to lands under DOD administration as required by section 204(i) of FLPMA (43 U.S.C. 1714(i)). Due to these identified deficiencies, on April 16, 2021, the Department—relying on its inherent authority to revisit decisions based on identified legal errors—deferred the opening of lands under PLO No. 7899 and the publication of PLO Nos. 7900, 7901, 7902, and 7903, in order to address the deficiencies in the decision-making processes that led to the PLOs (86 FR 20193).

Due to the five-year statutory limit on the application period for allotment selections by Alaska Native Vietnam-era Veterans under section 1119 of the Dingell Act, the BLM prioritized completion of an environmental assessment to ensure legal compliance for opening lands within the areas affected by PLO Nos. 7899, 7900, 7901, 7902, and 7903. The BLM completed its process on April 21, 2022, and the Secretary issued Public Land Order No. 7912 to open lands within PLO Nos. 7899, 7900, 7901, 7902, and 7903 to allotment selection under section 1119 of the Dingell Act on August 15, 2022 (87 FR 50202).

On August 18, 2022, the BLM published in the Federal Register a notice of intent to prepare an environmental impact statement to consider the impacts of opening lands subject to PLO Nos. 7899, 7900, 7901, 7902, and 7903 within the Bay, Bering Sea-Western Interior, East Alaska, Kobuk-Seward Peninsula, and Ring of Fire Planning Areas (87 FR 50875). This process is intended to address the remaining legal defects in the decision-making processes for PLO Nos. 7899, 7900, 7901, 7902, and 7903 and to ensure compliance with the requirements of NEPA, section 204(i) of FLPMA, section 106 of the NHPA, section 7 of the ESA, and section 810 of the Alaska National Interest Lands Conservation Act. Due to the scope and complexity of the issues being analyzed in the EIS, the BLM will not be ready to reach a decision by April 16, 2023 and, as a result, will defer the opening order to August 31, 2024 to allow the BLM to complete the analysis and consultation required to address the legal defects identified in the decision-making processes for PLO Nos. 7899, 7900, 7901, 7902, and 7903.

For the orderly administration of the public lands and in accordance with 43 CFR 2091.6, this Order amends the opening order contained in Paragraph 3 of PLO 7899 (86 FR 5236) as follows:

At 8 a.m. Alaska Time on August 31, 2024, the lands described in paragraph 1 of PLO 7899 (86 FR 5236) shall be open to all forms of appropriation under the general public land laws, including location and entry under the mining laws, leasing under the Mineral Leasing Act of February 25, 1920, as amended, subject to valid existing rights, the provisions of existing withdrawals, other segregations of record, and the requirements of applicable law. Appropriation of any of the lands referenced in paragraph 1 of PLO 7899 (86 FR 5236), under the general mining laws prior to the date and time of revocation remain unauthorized. Any such attempted appropriation, including attempted adverse possession under 30 U.S.C. 38, shall vest no rights against the United States.

Laura Daniel-Davis,
Principal Deputy Assistant Secretary, Land and Minerals Management.

[FR Doc. 2023-07420 Filed 4-7-23; 8:45 am]

BILLING CODE 4331-10-P